DEPARTMENT OF AGRICULTURE

Animal and Plant Health Inspection Service

[Docket No. APHIS-2017-0034]

Notice of Request for Approval of an Information Collection; Changes to the National Poultry Improvement Plan Program Standards

AGENCY: Animal and Plant Health Inspection Service, USDA.

ACTION: New information collection; comment request.

SUMMARY: In accordance with the Paperwork Reduction Act of 1995, this notice announces the Animal and Plant Health Inspection Service's intention to request approval of a new information collection associated with changes we are making to the National Poultry Improvement Plan Program Standards pertaining to the compartmentalization of primary poultry breeding establishments and approval of compartment components such as farms, feedmills, hatcheries, and egg depots.

DATES: We will consider all comments that we receive on or before September 12, 2017.

ADDRESSES: You may submit comments by either of the following methods:

• Federal eRulemaking Portal: Go to http://www.regulations.gov/#!docketDetail;D=APHIS-2017-0034.

• Postal Mail/Commercial Delivery: Send your comment to Docket No. APHIS-2017-0034, Regulatory Analysis and Development, PPD, APHIS, Station 3A-03.8, 4700 River Road Unit 118, Riverdale, MD 20737-1238.

Supporting documents and any comments we receive on this docket may be viewed at http://www.regulations.gov/#!docketDetail;D=APHIS-2017-0034 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the National Poultry Improvement Plan Program Standards, contact Dr. Denise Brinson, DVM, Senior Coordinator, National Poultry Improvement Plan, VS, APHIS, USDA, 1506 Klondike Road, Suite 101, Conyers, GA 30094-5104; (770) 922-3496. For copies of more detailed information on the information collection, contact Ms. Kimberly Hardy, APHIS' Information Collection Coordinator, at (301) 851-2483.

SUPPLEMENTARY INFORMATION:

Title: Changes to the National Poultry Improvement Plan Program Standards.

OMB Control Number: 0579-XXXX.

Type of Request: Approval of a new information collection.

Abstract: The National Poultry Improvement Plan (NPIP) is a voluntary Federal-State-industry mechanism for controlling certain poultry diseases and for improving poultry breeding flocks and products through disease control techniques.

The cooperative work is carried out through Memoranda of Understanding with the participating States. Specific NPIP provisions are contained at parts 56, 145, 146, and 147 of Title 9, Code of Federal Regulations. Veterinary Services (VS) within the Animal and Plant Health Inspection Service (APHIS) administers these regulations.

The NPIP has an existing information collection under Office of Management and Budget (OMB) approval number 0579-0007. This supplemental information collection, which will be merged into 0579-0007 at its next renewal, covers activities added by amending the NPIP Program Standards.

On July 12, 2016, we published a notice ¹ in the Federal Register (81 FR 45121-45122, Docket No. APHIS-2016-0013) advising the public that we had prepared updates to the NPIP Program Standards. Specifically, we proposed to add provisions for compartmentalization of primary poultry breeding establishments and approval of compartment components, such as farms, feedmills, hatcheries, and egg depots. These proposed provisions included requirements for applying for compartmentalization of facilities and for facility design and management, as well as an outline of the auditing system APHIS proposed to use to evaluate compartments and their component operations.

¹ To view the notice and comments we received, go to http://www.regulations.gov/#!docketDetail;D=APHIS-2016-0013.

Compartmentalization is a procedure a country may implement to define and manage animal subpopulations of distinct health status and a common biosecurity program within its territory, in accordance with the guidelines in the World Organization for Animal Health (OIE) Terrestrial Animal Health Code for the purpose of disease control and international trade. Compartmentalization may also enable continued interstate movement of breeding stock to domestic customers and operations if future low pathogenic avian influenza and/or highly pathogenic avian influenza outbreaks occur.

Under the amended NPIP Standards proposed in the July 2016 notice, APHIS would recognize companies and associated entities as compartments on its receipt and review of application forms. These forms would be reviewed and signed by the Official State Agency administering the NPIP on APHIS' behalf at the State level and approved by the NPIP national office. Once the application was approved, an auditor would be assigned to assess and inspect all components of the compartment. If all components passed inspection, NPIP would notify the company of its compartment certification and the list of certified components within the compartment. Recertification of components would take place every year.

Prospective auditors would have to meet defined criteria and apply to the NPIP for acceptance as certified auditors to conduct assessments of prospective compartments.

In the July 2016 notice we indicated that in accordance with section 3507(d) of the Paperwork Reduction Act of 1995 (44 U.S.C. 3501 et seq.), we had determined that there were reporting and recordkeeping burdens associated with the proposed compartmentalization requirements. We also stated that we would publish a separate document in the Federal Register announcing our determination of burden and soliciting comments on it.

APHIS is asking OMB to approve, for 3 years, its use of these information collection activities in connection with APHIS' efforts to continually improve the health of the U.S. poultry population and the quality of U.S. poultry products.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: Public reporting burden for this collection of information is estimated to average 2.22 hours per response.

Respondents: Official State Agencies, prospective auditors, certified auditors, and breeding-hatchery companies and associated entities.

Estimated Number of Respondents: 25.

Estimated Number of Responses per Respondent: 26.

Estimated Annual Number of Responses: 660.

Estimated Total Annual Burden on Respondents: 1,463 hours.

(Due to rounding, the total annual burden hours may not equal the product of the annual number of responses multiplied by the average reporting burden per response).

All responses to this notice will be summarized and included in the request for OMB approval. All comments will also become a matter of public record.

Done in Washington, DC, on July 10, 2017.
Michael C. Gregoire,
Acting Administrator, Animal and Plant Health Inspection Service.

[FR Doc. 2017-14812 Filed 7-13-17; 8:45 am]

BILLING CODE 3410-34-P